DEPARTMENT OF DEFENSE

Office of the Secretary

[Docket ID: DoD-2024-OS-0127]

Submission for OMB Review; Comment Request

AGENCY: Washington Headquarters Services (WHS), Department of Defense (DoD).

ACTION: 30-Day information collection notice.

SUMMARY: The DoD has submitted to the Office of Management and Budget (OMB) for clearance the following proposal for collection of information under the provisions of the Paperwork Reduction Act.

DATES: Consideration will be given to all comments received by May 28, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Pentagon Athletic Center Membership Application; WHS Form 19; OMB Control Number 0704-PACM.

Type of Request: New.

Number of Respondents: 3,436.

Responses per Respondent: 1.

Annual Responses: 3,436.

Average Burden per Response: 10 minutes.

Annual Burden Hours: 573.

Needs and Uses: The WHS Form 19 is necessary to obtain information from respondents who seek to become a member of the Pentagon Athletic Center (PAC). Information that is collected includes home address, email, and full name, to build a profile for each member in the membership database. Respondents of the WHS-19 are government civilians, contractors, active duty, and retired personnel in the National Capital Region.

Affected Public: Individuals or households.

Frequency: On occasion.

Respondent's Obligation: Voluntary.

DoD Clearance Officer: Mr. Reginald Lucas.

Dated: April 22, 2025.
Aaron T. Siegel,
Alternate OSD Federal Register Liaison Officer, Department of Defense.

[FR Doc. 2025-07202 Filed 4-25-25; 8:45 am]

BILLING CODE 6001-FR-P